DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. 35).

Agency: United States Patent and Trademark Office (USPTO).

Title: Patents External Quality Survey (formerly Customer Panel Quality Survey).

Form Number(s): None.

Agency Approval Number: 0651-0057.

Type of Request: Extension of a currently approved collection.

Burden: 527 hours annually.

Number of Respondents: 3,100 responses per year, with an estimated 75 surveys submitted by small entities. Out of a sample size of 3,100 for each wave of data collection, the USPTO estimates that 1,550 completed surveys will be received, for a response rate of 50%. This estimate was based on the response rates of the previous survey waves that the USPTO has conducted. Each year of the survey will include two waves of data collection with an estimated 3,100 completed surveys received annually (1,550 completed surveys × 2 waves of the survey). Of this total, the USPTO estimates that 15% (465) of the surveys will be returned by mail and that 85% (2,635) of the surveys will be completed using the online option.

Avg. Hours per Response: The USPTO estimates that it takes the public approximately ten minutes (0.17 hours) to complete either the paper or online version of this survey. This estimated time includes gathering the necessary information, completing the survey, and submitting the completed survey to the USPTO.

Needs and Uses: Individuals who work at firms that file more than six patent applications a year use the Patents External Quality Survey to provide the USPTO with their perceptions of examination quality. The USPTO uses the feedback gathered from the survey to assist them in targeting key areas for examination quality improvement and to identify important areas for examiner training.

Affected Public: Individuals or households; businesses or other for-profits; and non-profit institutions.

Frequency: Semi-annually.

Respondent's Obligation: Voluntary.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-0057 copy request” in the subject line of the message.

• Mail: Susan K. Fawcett, Records Officer, Office of the Chief Information Officer, United States Patent and Trademark Office, P.O. Box 1450, Alexandria, VA 22313-1450.

Written comments and recommendations for the proposed information collection should be sent on or before November 13, 2012 to Nicholas A. Fraser, OMB Desk Officer, via email to Nicholas_A._Fraser@omb.eop.gov, or by fax to 202-395-5167, marked to the attention of Nicholas A. Fraser.

Dated: October 5, 2012.
Susan K. Fawcett,
Records Officer, USPTO, Office of the Chief Information Officer.

[FR Doc. 2012-25020 Filed 10-10-12; 8:45 am]

BILLING CODE 3510-16-P